DEPARTMENT OF JUSTICE

Drug Enforcement Administration

Manufacturer of Controlled Substances, Notice of Registration

By notice dated March 5, 2004, and published in the Federal Register on March 15, 2004 (69 FR 12179), Lin Zhi International, Inc., 687 North Pastoria Avenue, Sunnyvale, California 94085, made application by renewal to the Drug Enforcement Administration (DEA) to be registered as a bulk manufacturer of eleven basic classes of controlled substances in Schedule I and II. On April 13, 2004, the firm submitted a latter to DEA which stated that only six of the basic classes of controlled substances were intended for bulk manufacture. The corrected list of drug codes is as follows:

Drug | Schedule
Tetrahydrocannabinols (7370) | I
3,4-Methylenedioxymethamphetamine (7405) | I
Cocaine (9041) | II
Methadone (9250) | II
Dextropropoxyphene (9273) | II
Morphine (9300) | II

The company plans to manufacture small quantities of controlled substances to make drug testing reagents and controls.

No comments or objection have been received. DEA has considered the factors in 21 U.S.C. 823(a) and determined that the registration of Lin Zhi International, Inc. to manufacture the listed basic classes of controlled substances is consistent with the public interest at this time. DEA has investigated Lin Zhi International, Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic classes of controlled substances listed.

Dated: July 28, 2004.
Joseph T. Rannazzisi,
Deputy Director, Office of Diversion Control, Drug Enforcement Administration.

[FR Doc. 04-18173 Filed 8-9-04; 8:45 am]

BILLING CODE 4410-09-M